ENVIRONMENTAL PROTECTION AGENCY

[FRL-6582-6]

Agency Information Collection Activities: Proposed Collection; Comment Request; Invitation for Bids and Request for Proposals (IFBs and RFPs)

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Invitation for Bids and Request for Proposals (IFBs and RFPs), EPA ICR No. 1038.10, OMB Control No. 2030-0006, expires 9/30/2000. Before submitting the ICR to OMB for review and approval, EPA is soliciting comments on specific aspects of the proposed information collection as described below.

DATES: Comments must be submitted on or before June 19, 2000.

ADDRESSES: 1200 Pennsylvania Ave NW, Ariel Rios Building, Attn 3802R, Washington, DC 20460.

FOR FURTHER INFORMATION CONTACT: Leigh Pomponio, (202) 564-4364, e-mail: pomponio.leigh@epamail.epa.gov. A hard copy of the ICR may be obtained by contacting the named individual.

SUPPLEMENTARY INFORMATION: Affected entities: Entities potentially affected by this action are those companies or organizations, large and small businesses, that want to supply the EPA with supplies or services.

Title: Invitation for Bids and Request for Proposals (IFBs and RFPs), OMB Control No. 2030-0006, EPA ICR No., 1038.10, expiring 9/30/2000.

Abstract: EPA requires contractors to submit information in order to be considered for the award of a contract. Information requested includes: prices for the supplies/services requested, information on past performance, technical and cost information, and general financial and organizational information. Information provided by vendors in response to an RFP/IFB is used to evaluate which vendor will provide the best product in terms of quality, timeliness, and price. Responses to IFBs/RFPs are required to be considered for a contract award. The legal authority for this collection is 41 U.S.C. 253. Contractor confidential business information submitted in connection with an IFB or RFP response is protected from public release in accordance with 40 CFR 2.201 et seq. An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Burden estimate for responding to IFBs is 8 hours per submission. Annual collection by the Agency is estimated to be 288 bids. At an average cost of $461.30 for each submission, the annual cost to respondents is $132,854.40. Burden for responding to RFPs is estimated at 251 hours per submission. Annual receipt of proposals by the Agency is expected to be 973. At an average cost of $14,508.10 the annual cost for RFP information collection is estimated at $14,116,381. The total respondent burden for both IFBs and RFPs is 246,527 hours. Total annual cost for IFBs and RFPs is estimated at $14,249,235. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 14, 2000.
Leigh Pomponio,
Acting Manager, Policy Service Center.

[FR Doc. 00-9923 Filed 4-19-00; 8:45 am]

BILLING CODE 6560-50-P